Order of May 28, 2021

Sequestration Order for Fiscal Year 2022 Pursuant to Section 251A of the Balanced Budget and Emergency Deficit Control Act, as Amended

By the authority vested in me as President by the laws of the United States of America, and in accordance with section 251A of the Balanced Budget and Emergency Deficit Control Act (the “Act”), as amended, 2 U.S.C. 901a, I hereby order that, on October 1, 2021, direct spending budgetary resources for fiscal year 2022 in each non-exempt budget account be reduced by the amount calculated by the Office of Management and Budget in its report to the Congress of May 28, 2021.

All sequestrations shall be made in strict accordance with the requirements of section 251A of the Act and the specifications of the Office of Management and Budget's report of May 28, 2021, prepared pursuant to section 251A(9) of the Act.

THE WHITE HOUSE,

May 28, 2021.

[FR Doc. 2021-11819

Filed 6-2-21; 11:15 am]

Billing code 3295-F1-P